DEPARTMENT OF ENERGY

Federal Energy Regulatory Commission

[Project No. 13239-002]

Parker Knoll Hydro, LLC; Notice of Application Tendered for Filing With the Commission and Soliciting Additional Study Requests

Take notice that the following hydroelectric application has been filed with the Commission and is available for public inspection.

a. Type of Application: New license.

b. Project No.: 13239-002.

c. Date filed: November 30, 2011.

d. Applicant: Parker Knoll Hydro, LLC.

e. Name of Project: Parker Knoll Pumped Storage Hydroelectric Project.

f. Location: At Parker Mountain, near the Town of Richfield, Piute County, Utah. The project would occupy 458.7 acres of Federal land.

g. Filed Pursuant to: Federal Power Act 16 U.S.C. 791(a)-825(r).

h. Applicant Contact: Parker Knoll Hydro, LLC., 975 South State Highway, Logan, UT 84321; (435) 752-2580.

i. FERC Contact: Matt Buhyoff; (202) 502-6824; matt.buhyoff@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to Section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: Jan 30, 2012.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-(866) 208-3676, or for TTY, (202) 502-8659. Although the Commission strongly encourages electronic filing, documents may also be paper-filed. To paper-file, mail an original and seven copies to: Kimberly D. Bose, Secretary, Federal Energy Regulatory Commission, 888 First Street NE., Washington, DC 20426.

m. The application is not ready for environmental analysis at this time.

n. The proposed Parker Knoll Pumped Storage Project would be located at Parker Mountain, in Piute County, Utah. The proposed project would be a closed-loop pumped storage system, with an initial fill from the existing Otter Creek Reservoir. Parker Knoll would include the following new facilities: (1) An approximately 175-foot-high upper main dam with a crest length of approximately 1,650 feet and one saddle dam; (2) an upper reservoir with a storage capacity of approximately 6,780 acre-feet and a surface area of approximately 110 acres; (3) an approximately 100-foot-high lower dam with a crest length of approximately 1,750 feet and two saddle dams; (4) a lower reservoir with storage capacity of approximately 6,760 acre-feet and a surface area of approximately 130 acres; (5) a 2,390-feet-long and 27-foot-diameter headrace tunnel; (6) a 2,200-feet-long and 27-feet-diameter vertical shaft; (7) a 1,000-feet-long and 27-foot-diamter steel-lined penstock tunnel; (8) a 7,126-foot-long and 35-feet-diameter tailrace tunnel; (9) a powerhouse containing four variable speed, reversible pump-turbine units with a minimum rating of 250 MW; (10) an approximately 585-feet by 340-feet substation; (11) a 16-inch diameter and 68,000-feet-long fill pipeline and system; (12) approximately 1 mile of 345-kV transmission line; and (13) appurtenant facilities. The project would occupy 458.7 acres of Federal land and would have an estimated annual generation of 2,630 gigawatt hours.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule and final amendments: The application will be processed according to the following Hydro Licensing Schedule. Revisions to the schedule will be made as appropriate.

Issue Acceptance or Deficiency Letter | March 2012.
Request Additional Information | March 2012.
Issue Acceptance Letter | June 2012.
Issue Scoping Document 1 for comments | November 2012.
Request Additional Information (if necessary) | December 2012.
Issue Scoping Document 2 | February 2013.
Notice that application is ready for environmental analysis | February 2013.
Notice of the availability of the draft EA or EIS | July 2013.
Notice of the availability of the final EA or final EIS | January 2014.

Final amendments to the application must be filed with the Commission no later than 30 days from the issuance date of the notice of ready for environmental analysis.

Dated: December 16, 2011.
Kimberly D. Bose,
Secretary.

[FR Doc. 2011-32763 Filed 12-21-11; 8:45 am]

BILLING CODE 6717-01-P